NATIONAL SCIENCE FOUNDATION

Proposal Review Panel for Physics; Notice of Meeting

In accordance with the Federal Advisory Committee Act (Pub., L. 92-463, as amended), the National Science Foundation announces the following meeting:

Name: Proposal Review Panel for the Division of Physics (1208) (V170844)—Site Visit.

Date and Time:

February 13, 2017; 8:00 a.m.-6:35 p.m.

February 14, 2017; 8:00 a.m.-1:00 p.m.

Place: Florida State University, Tallahassee, FL 32306 (FSU).

Type of Meeting: Part-Open.

Contact Person: Allena Opper, Program Director for Nuclear Precision Measurements, Division of Physics, National Science Foundation, 4201 Wilson Blvd., Room 1015, Arlington, VA 22230; Telephone: (703) 292-8958.

Purpose of Meeting: Site visit to provide an evaluation of the progress of the projects at the host site for the Division of Physics at the National Science Foundation.

Agenda

February 13, 2017; 8:00 a.m.-6:35 p.m.

8:00 a.m. Executive Session—Closed

8:30 a.m. Overview (Wiedenhoever)

9:00 a.m. Nuclear Astrophysics and Fusion (Almaraz-Calderon)

9:45 a.m. Lab tour and coffee break

11:15 a.m. Relativistic Heavy Ions (Frawley)

12:00 p.m. Executive Session—Closed

12:30 p.m. Lunch with students

1:15 p.m. Exotic Nuclei (Tabor)

2:00 p.m. Nuclei at the extremes (Riley)

2:45 p.m. Evolution of Shell Structure (Cottle)

3:30 p.m. Education, Broader Impacts

4:00 p.m. Executive Session—Closed

4:30 p.m. Executive Session with Dean A&S Sam Huckaba—Closed

5:00 p.m. V.P. for Research (G. Ostrander) or Assoc. V.P. for Research (R. Ellington)

5:20 p.m. Executive Session—Closed

6:20 p.m. Questions to the PI's

6:35 p.m. Dinner

February 14, 2017; 8:00 a.m.-1:00 p.m.

8:00 a.m. Executive Session—Closed

8:30 a.m. Response to questions

9:00 a.m. Committee discussion/writing

12:00 p.m. Lunch

1:00 p.m. Closeout

Reason for Closing: Topics to be discussed and evaluated during closed portions of the site review will include information of a proprietary or confidential nature, including technical information and information on personnel. These matters are exempt under 5 U.S.C. 552b(c), (4) and (6) of the Government in the Sunshine Act.

Dated: .January 18, 2017.
Crystal Robinson,
Committee Management Officer.

[FR Doc. 2017-01525 Filed 1-23-17; 8:45 am]

BILLING CODE 7555-01-P